DEPARTMENT OF THE TREASURY

Bureau of Alcohol, Tobacco and Firearms

27 CFR Part 275

[T.D. ATF-422b]

RIN 1512-AC07

Implementation of Public Law 105-33, Section 9302, Requiring the Qualification of Tobacco Product Importers (98R-316P) and Miscellaneous Technical Amendments: Correction

ACTION: Temporary rule; correction.

SUMMARY: This document contains a correcting amendment to the temporary regulations, which were published in the Federal Register on December 22, 1999 (64 FR 71947) and on March 21, 2000 (65 FR 15058). The temporary regulations relate to implementing certain provisions of the Balanced Budget Act of 1997 that set forth requirements that, beginning January 1, 2000, importers of tobacco products must qualify for a permit to conduct that activity.

DATES: This rule is effective July 24, 2000.

FOR FURTHER INFORMATION CONTACT: Robert Ruhf, Regulations Division, Bureau of Alcohol, Tobacco and Firearms, 650 Massachusetts Avenue NW, Washington, DC 20226 (202-927-8210).

SUPPLEMENTARY INFORMATION:

Background

The temporary regulations that are the subject of this correction implemented some of the provisions of the Balanced Budget Act of 1997 (Public Law 105-33) and made clarifying changes to part 275. The temporary regulations were published in the Federal Register on December 22, 1999 (T.D. ATF-422, 64 FR 71947) and corrected on March 21, 2000 (T.D. ATF-422a, 65 FR 15058). These provisions amended the Internal Revenue Code of 1986 to require that, beginning January 1, 2000, importers of tobacco products must qualify for a permit to conduct that activity.

Need for Correction

As published, the temporary regulations contain an error that may be confusing and needs to be clarified. T.D. ATF-422 contained an instruction to remove and reserve a section of regulations (27 CFR 275.117) (see 64 FR 71951). Later, T.D. ATF-422a removed this instruction (65 FR 15059), but it should not have been removed. This document corrects this error.

List of Subjects in 27 CFR Part 275

Administrative practice and procedure, Authority delegations, Cigarette papers and tubes, Cigars and cigarettes, Electronic funds transfers, Claims, Customs duties and inspections, Excise taxes, Imports, Labeling, Packaging and containers, Penalties, Reporting and record keeping requirements, Seizures and forfeitures, Surety bonds, U.S. Possessions, Warehouses.

Accordingly, 27 CFR Part 275 is corrected by making the following correcting amendments:

PART 275—IMPORTATION OF TOBACCO PRODUCTS AND CIGARETTE PAPERS AND TUBES

1. The authority citation for part 275 continues to read as follows:

Authority: 18 U.S.C. 2342; 26 U.S.C. 5701, 5703, 5704, 5705, 5708, 5712, 5713, 5721, 5722, 5723, 5741, 5754, 5761, 5762, 5763, 6301, 6302, 6313, 6404, 7101, 7212, 7342, 7606, 7652, 7805; 31 U.S.C. 9301, 9303, 9304, 9306.

§ 275.117 [Removed and reserved]

2. Section 275.117 is removed and reserved.

Signed: July 11, 2000.
Bradley A. Buckles,
Director.

[FR Doc. 00-18057 Filed 7-21-00; 8:45 am]

BILLING CODE 4810-31-P